DEPARTMENT OF TRANSPORTATION

National Highway Traffic Safety Administration

[Docket No. NHTSA-2016-0083]

National Emergency Medical Services Advisory Council (NEMSAC); Notice of Federal Advisory Committee Meeting

AGENCY: National Highway Traffic Safety Administration (NHTSA), Department of Transportation (DOT).

ACTION: Notice.

SUMMARY: The NHTSA announces meeting of NEMSAC to be held in the Metropolitan Washington, DC, area. This notice announces the date, time, and location of the meetings, which will be open to the public, as well as opportunities for public input to the NEMSAC. The purpose of NEMSAC, a nationally recognized council of emergency medical services representatives and consumers, is to advise and consult with DOT and the Federal Interagency Committee on Emergency Medical Services (FICEMS) on matters relating to emergency medical services (EMS).

DATES: The NEMSAC meeting will be held on September 7, 2016 from 8:30 a.m. to 12:30 p.m. EDT, and on September 8, 2016 from 8:30 a.m. to 12 p.m. EDT. A public comment period will take place on September 7, 2016 between 12 p.m. and 12:30 p.m. EDT and on September 8, 2016 between 10:45 a.m. and 11 a.m. EDT. NEMSAC committees will meet in the same location on Wednesday, September 7, 2016 from 2 p.m. to 5 p.m. EDT. Written comments for the NEMSAC from the public must be received no later than September 1, 2016.

ADDRESSES: The meetings will be held at the FHI 360 Conference Center, 8th Floor, 1825 Connecticut Avenue NW., Washington, DC 20009. Attendees should plan to arrive 20 minutes early to check in for the meeting.

FOR FURTHER INFORMATION CONTACT: Susan McHenry, U.S. Department of Transportation, Office of Emergency Medical Services, 1200 New Jersey Avenue SE., NTI-140, Washington, DC 20590, susan.mchenry@dot.gov or 202-366-6540.

SUPPLEMENTARY INFORMATION: Notice of these meetings is given under the Federal Advisory Committee Act, Public Law 92-463, as amended (5 U.S.C. App.). The NEMSAC is authorized under Section 31108 of the Moving Ahead with Progress in the 21st Century Act of 2012.

Tentative Agenda of the National EMS Advisory Council Meeting

The tentative NEMSAC agenda includes the following:

Wednesday, September 7, 2016, (8:30 a.m. to 12:30 p.m. EDT)

(1) Opening Remarks

(2) Disclosure of Conflicts of Interests by Members

(3) Federal Liaison Update—Reports and Updates from the Departments of Transportation, Homeland Security, and Health & Human Services

(4) NEMSAC Committee Updates

(5) Public Comment (12 p.m.-12:30 p.m. EDT)

(6) Recess for Day (12:30 p.m. EDT)

NEMSAC Committees Breakout Sessions from 2 p.m.-5 p.m.—(on-site and open to the public)

Thursday, September 8, 2016 (8:30 a.m. to 12 p.m. EDT)

(1) Reconvene and Approval of April 18-19, 2016 Meeting Minutes

(2) NEMSAC Committee Reports (see committee list below)

(3) Public Comment (10:45 a.m.-11 a.m. EDT)

(4) Election of Chair and Vice Chair

(5) Next Steps

(6) Adjourn—12 p.m. EDT

Overview of NEMSAC Committees:

a. Funding and Reimbursement

b. Innovative Practices of EMS Workforce

c. Data Integration and Technology

d. Patient Care, Quality Improvement and General Safety

e. Provider and Community Education

f. Ad Hoc Committee on Recognition of EMS Personnel Licensure Interstate Compact (REPLICA)

g. Ad Hoc Committee on EMS Scope of Practice Model & Administration of Narcotic Antagonists

Registration Information: This meeting will be open to the public; however, pre-registration is requested. Individuals wishing to attend must register online no later than September 1, 2016. For NEMSAC please register at: http://www.cvent.com/d/9vq7db/4W.

For assistance with registration, please contact Susan McHenry at Susan.Mchenry@dot.gov or at 202-366-6540. There will not be a teleconference option for these meetings.

Public Comment: Members of the public are encouraged to comment directly to the NEMSAC during designated public comment periods. In order to allow as many people as possible to speak, speakers are requested to limit their remarks to 5 minutes. Written comments from members of the public will be distributed to NEMSAC members at the meeting and should reach the NHTSA Office of EMS no later than September 1, 2016. Written comments may be submitted by either one of the following methods: (1) You may submit comments by email: nemsac@dot.gov or (2) you may submit comments by fax: 202-366-7149.

A final agenda as well as meeting materials will be available to the public online through www.EMS.gov on or before August 29, 2016.

Issued on: August 9, 2016.
Jeffrey P. Michael,
Associate Administrator for Research and Program Development.

[FR Doc. 2016-19215 Filed 8-11-16; 8:45 am]

BILLING CODE 4910-59-P